DEPARTMENT OF ENERGY

Federal Energy Regulatory Commission

[Docket No. IC21-5-000]

Commission Information Collection Activities (FERC-725HH); Comment Request; Revision and Extension

AGENCY: Federal Energy Regulatory Commission, Department of Energy.

ACTION: Notice of information collection and request for comments.

SUMMARY: In compliance with the requirements of the Paperwork Reduction Act of 1995, the Federal Energy Regulatory Commission (Commission or FERC) is soliciting public comment on the currently approved information collection FERC-725HH (RF Reliability Standards).

DATES: Comments on the collection of information are due February 5, 2021.

ADDRESSES: You may submit comments (identified by Docket No. IC21-5-000) by any of the following methods:

• eFiling at Commission's Website: http://www.ferc.gov/docs-filing/efiling.asp

• U.S. Postal Service Mail: Persons unable to file electronically may mail similar pleadings to the Federal Energy Regulatory Commission, 888 First Street NE, Washington, DC 20426.

• Effective July 1, 2020, delivery of filings other than by eFiling or the U.S. Postal Service should be delivered to Health and Human Services, 12225 Wilkins Avenue, Rockville, Maryland 20852.

Instructions: All submissions must be formatted and filed in accordance with submission guidelines at: http://www.ferc.gov. For user assistance, contact FERC Online Support by email at: ferconlinesupport@ferc.gov, or by phone at: (866) 208-3676 (toll-free).

Docket: Users interested in receiving automatic notification of activity in this docket or in viewing/downloading comments and issuances in this docket may do so at: http://www.ferc.gov/docs-filing/docs-filing.asp.

FOR FURTHER INFORMATION CONTACT: Ellen Brown may be reached by email at DataClearance@FERC.gov, telephone at (202) 502-8663, and fax at (202) 273-0873.

SUPPLEMENTARY INFORMATION:

Title: FERC-725HH, RF Reliability Standards.

OMB Control No.: 1902-0256.

Type of Request: Three-year renewal of FERC-725HH.

Abstract: This collection of information pertains to the Commission's compliance with section 215 of the Federal Power Act (FPA) (16 U.S.C. 824o), which enables the Commission to strengthen the reliability of the bulk-power system.¹ The Commission's implementation of FPA section 215 involves review and approval of a system of mandatory Reliability Standards that are established and enforced by an Electric Reliability Organization (ERO).² The Commission has certified the North American Electric Reliability Corporation (NERC) as the ERO.³

¹ FPA section 251(a)(1) defines bulk-power system as follows: (A) facilities and control systems necessary for operating an interconnected electric energy transmission network (or any portion thereof); and (B) electric energy from generation facilities needed to maintain transmission system reliability. The term does not include facilities used in the local distribution of electric energy.

² FPA section 215(a)(2) defines “Electric Reliability Organization” as “the organization certified by the Commission under subsection (c) the purpose of which is to establish and enforce reliability standards for the bulk-power system, subject to Commission review.”

³ North American Electric Reliability Corp., 116 FERC 61,062 (ERO Certification Order), order on reh'g & compliance, 117 FERC 61,126 (2006), aff'd sub nom. Alcoa, Inc. v. FERC, 564 F.3d 1342 (DC Cir. 2009).

Reliability Standards that the ERO proposes to the Commission may include Reliability Standards that are proposed to the ERO by a Regional Entity.⁴ A Regional Entity is an entity that has been approved by the Commission to enforce Reliability Standards under delegated authority from the ERO.⁵ On March 17, 2011, the Commission approved a regional Reliability Standard submitted by the ERO that was developed by the ReliabilityFirst Corporation (RF).⁶

⁴ 16 U.S.C. 824o(e)(4).

⁵ 16 U.S.C. 824o(a)(7) and (e)(4).

⁶ Planning Resource Adequacy Assessment Reliability Standard, Order No. 747, 134 FERC 61,212 (2011).

RF promotes bulk electric system reliability in the Eastern Interconnection. RF is the Regional Entity responsible for compliance monitoring and enforcement in the RF region. In addition, RF provides an environment for the development of Reliability Standards and the coordination of the operating and planning activities of its members as set forth in the RF bylaws.

There is one regional Reliability Standard in the RF region. The Commission requests renewal of OMB clearance for that regional Reliability Standard, known as BAL-502-RF-03 (Planning Resource Adequacy Analysis, Assessment and Documentation).

Type of Respondents: Planning coordinators.

Estimate of Annual Burden ⁷: The estimated burden and cost ⁸ are as follows:

⁷ Burden is defined as the total time, effort, or financial resources expended by persons to generate, maintain, retain, or disclose or provide information to or for a Federal agency. For further explanation of what is included in the information collection burden, refer to 5 CFR 1320.3.

⁸ For BAL-502-RF-03, the hourly cost (for salary plus benefits) uses the figures from the Bureau of Labor Statistics for three positions involved in the reporting and recordkeeping requirements. These figures include salary (https://www.bls.gov/oes/current/oes_nat.htm) and benefits (http://www.bls.gov/news.release/ecec.nr0.htm) and are:

• Manager (Occupation Code 11-0000): $94.84/hour

• Engineer (Occupation Code 17-2071): $85.71/hour

• File Clerk (Occupation Code 43-4071): $52.60/hour

The hourly cost for the reporting requirements ($77.72) is an average of the cost of a manager, an engineer, and a file clerk.

FERC-725HH, RF Reliability Standards
Entity | Number of respondents ⁹ | Annual number of responses per respondent | Annual number of responses | Average burden hours and cost per response ($) | Total annual burden hours and total annual cost ($) | Cost per respondent ($)
| (1) | (2) | (1) * (2) = (3) | (4) | (3) * (4) = (5) | (5) ÷ (1) = (6)
Proposed Regional Reliability Standard BAL-502-RF-03
Planning Coordinators | 2 | 1 | 2 | 16 hrs.; $1,243.52 | 32 hrs.; $2487.04 | $1,243.52

Comments: Comments are invited on: (1) Whether the collection of information is necessary for the proper performance of the functions of the Commission, including whether the information will have practical utility; (2) the accuracy of the agency's estimate of the burden and cost of the collection of information, including the validity of the methodology and assumptions used; (3) ways to enhance the quality, utility and clarity of the information collection; and (4) ways to minimize the burden of the collection of information on those who are to respond, including the use of automated collection techniques or other forms of information technology.

⁹ The number of respondents is derived from the NERC Compliance Registry as of October 2, 2020 for the burden associated with the proposed regional Reliability Standard BAL-502-RF-03.

Dated: December 1, 2020.
Kimberly D. Bose,
Secretary.

[FR Doc. 2020-26823 Filed 12-4-20; 8:45 am]

BILLING CODE 6717-01-P